DEPARTMENT OF HOMELAND SECURITY

Notice of Finding of Mass Influx of Aliens

AGENCY: Department of Homeland Security.

ACTION: Notice of Finding.

SUMMARY: On January 23, 2025, the Acting Secretary of Homeland Security signed a Finding of Mass Influx of Aliens. The text of the Finding is set out below.

Joseph N. Mazzara,
Acting General Counsel, U.S. Department of Homeland Security.

BILLING CODE 9110-9M-P

[FR Doc. 2025-01921 Filed 1-24-25; 4:45 pm]

BILLING CODE 9110-9M-C